INTERNATIONAL TRADE COMMISSION

[Investigation No. 731-TA-149 (Second Review)]

Barium Chloride From China

Determination

On the basis of the record ¹ developed in the subject five-year review, the United States International Trade Commission determines, pursuant to section 751(c) of the Tariff Act of 1930 (the Act),² that revocation of the antidumping duty order on barium chloride from China would be likely to lead to continuation or recurrence of material injury to an industry in the United States within a reasonably foreseeable time.

¹ The record is defined in section 207.2(f) of the Commission's Rules of Practice and Procedure (19 CFR 207.2(f)).

² 19 U.S.C. 1675(c).

Background

The Commission instituted this review on February 2, 2004 (69 FR 4979), and determined on May 7, 2004, that it would conduct an expedited review (69 FR 28947, May 19, 2004).

The Commission transmitted its determination in this review to the Secretary of Commerce on July 1, 2004. The views of the Commission are contained in USITC Publication 3702 (July 2004), entitled Barium Chloride From China: Investigation No. 731-TA-149 (Second Review).

Issued: July 20, 2004.
By order of the Commission.
Marilyn R. Abbott,
Secretary to the Commission.

[FR Doc. 04-16905 Filed 7-22-04; 8:45 am]

BILLING CODE 7020-02-P